INTERNATIONAL TRADE COMMISSION

[Investigation No. 337-TA-1024]

Certain Integrated Circuits With Voltage Regulators and Products Containing Same; Commission Determination Not To Review an Initial Determination Amending the Complaint and Notice of Investigation

AGENCY: U.S. International Trade Commission.

ACTION: Notice.

SUMMARY: Notice is hereby given that the U.S. International Trade Commission (“the Commission”) has determined not to review an initial determination (“ID”) amending the complaint and notice of investigation.

FOR FURTHER INFORMATION CONTACT: Ron Traud, Office of the General Counsel, U.S. International Trade Commission, 500 E Street SW., Washington, DC 20436, telephone 202-205-3427. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server at https://www.usitc.gov. The public record for this investigation may be viewed on the Commission's electronic docket (“EDIS”) at https://edis.usitc.gov. Hearing-impaired persons are advised that information on this matter can be obtained by contacting the Commission's TDD terminal, telephone 202-205-1810.

SUPPLEMENTARY INFORMATION: On October 12, 2016, the Commission instituted this investigation based on a complaint filed by R2 Semiconductor, Inc. of Sunnyvale, CA (“R2”). 81 FR 71764 (Oct. 18, 2016). The complaint alleges violations of section 337 based upon the importation into the United States, the sale for importation, or the sale within the United States after importation of certain integrated circuits with voltage regulators and products containing the same by reason of infringement of one or more of claims 1-4, 7-17, 20-26, 28, 29, and 31 of U.S. patent No. 8,233,250 (“the '250 patent”). Id. The Commission's Notice of Investigation named as respondents Intel Corporation of Santa Clara, CA; Intel Ireland Ltd. of Leixlip, Ireland; Intel Products Vietnam Co., Ltd. of Ho Chi Minh City, Vietnam; Intel Israel 74, Ltd. of Haifa, Israel; Intel Malaysia Sdn. Berhad of Penang, Malaysia; Intel China, Ltd. of Beijing, China; Dell, Inc. of Round Rock, TX; Dell Technologies Inc. of Round Rock, TX; HP Inc. of Palo Alto, CA; and Hewlett Packard Enterprise Co. of Palo Alto, CA (collectively, “respondents”). Id. The Office of Unfair Import Investigations (“OUII”) is participating in this investigation. Id.

On February 9, 2017, the administrative law judge issued Order No. 14, the subject ID, which granted an unopposed motion filed by R2 to amend the complaint and the Commission's Notice of Investigation to include allegations of a section 337 violation as to claims 5, 6, 18, 19, 27, and 30 of the `250 patent. No petitions for review of the subject ID were filed. The Commission has determined not to review the subject ID.

The authority for the Commission's determination is contained in section 337 of the Tariff Act of 1930, as amended (19 U.S.C. 1337), and in part 210 of the Commission's Rules of Practice and Procedure (19 CFR part 210).

By order of the Commission.
Issued: March 1, 2017.
Lisa R. Barton,
Secretary to the Commission.

[FR Doc. 2017-04310 Filed 3-3-17; 8:45 am]

BILLING CODE 7020-02-P